FEDERAL COMMUNICATIONS COMMISSION

47 CFR Part 54

[WC Docket Nos. 10-90, 14-58, 09-197, 16-271; RM 11868; FCC 23-60; FR ID 196019]

Connect America Fund

AGENCY: Federal Communications Commission.

ACTION: Final rule; announcement of effective date.

SUMMARY: In this document, the Federal Communications Commission (Commission) announces that the Office of Management and Budget (OMB) has approved, for a period of three years, an information collection associated with the rules for Enhanced Alternative Connect America Cost Model (A-CAM) contained in the Commission's Enhanced A-CAM Order (Order), WC Docket No. 10-90 et al., FCC 23-60. This document is consistent with the Order, which stated that the Commission would publish a document in the Federal Register announcing the effective date of the revised information collection requirements.

DATES: The amendments to § 54.308(e)(2) and (6) published at 88 FR 55918, August 17, 2023, are effective January 11, 2024.

FOR FURTHER INFORMATION CONTACT: Jesse Jachman, Wireline Competition Bureau at (202) 418-7400. For additional information concerning the Paperwork Reduction Act information collection requirements contact Nicole Ongele at (202) 418-2991 or via email at Nicole.Ongele@fcc.gov.

SUPPLEMENTARY INFORMATION: The Commission submitted new information collection requirements for review and approval by OMB, as required by the Paperwork Reduction Act (PRA) of 1995, on November 22, 2023. OMB approved the new information collection requirements on January 2, 2024. The information collection requirements are contained in the Commission's Enhanced A-CAM Order, FCC 23-60, published at 88 FR 55918, August 17, 2023. The OMB Control Number is 3060-1319. The Commission publishes this document as an announcement of the effective date of the rules published on August 17, 2023. If you have any comments on the burden estimates listed in the following, or how the Commission can improve the collections and reduce any burdens caused thereby, please contact Nicole Ongele, Federal Communications Commission, 45 L Street NE, Washington, DC 20554. Please include the OMB Control Number, 3060-1319, in your correspondence. The Commission will also accept your comments via email at PRA@fcc.gov. To request materials in accessible formats for people with disabilities (Braille, large print, electronic files, audio format), send an email to fcc504@fcc.gov or call the Consumer and Governmental Affairs Bureau at (202) 418-0530.

Synopsis

As required by the Paperwork Reduction Act of 1995 (44 U.S.C. 3507), the Commission is notifying the public that it received OMB approval on January 2, 2024, for the amendments to 47 CFR 54.308(e)(2) and (6) published at 88 FR 55918, August 17, 2023.

Under 5 CFR part 1320, an agency may not conduct or sponsor a collection of information unless it displays a current, valid OMB Control Number. No person shall be subject to any penalty for failing to comply with a collection of information subject to the Paperwork Reduction Act that does not display a current, valid OMB Control Number. The OMB Control Number is 3060-1319. The foregoing notification is required by the Paperwork Reduction Act of 1995, Public Law 104-13, October 1, 1995, and 44 U.S.C. 3507.

The total annual reporting burdens and costs for the respondents are as follows:

OMB Control Number: 3060-1319.

OMB Approval Date: January 2, 2024.

OMB Expiration Date: January 31, 2027.

Title: Enhanced A-CAM Cybersecurity and Supply Chain Risk Management Plan Requirements.

Form Number: N/A.

Type of Review: New collection.

Respondents: Business or other for-profit entities, and State, Local or Tribal governments.

Number of Respondents and Responses: 450 respondents; 900 responses.

Estimated Time per Response: 10-50 hours.

Frequency of Response: One-time and on occasion reporting requirements.

Obligation to Respond: Required to obtain or retain benefits. Statutory authority for this information collection is contained in 47 U.S.C. 154(i), 214, 218-220, 254, 303(r), and 403.

Total Annual Burden: 27,000 hours.

Total Annual Cost: No Cost.

Needs and Uses: On July 24, 2023, the Commission released the Enhanced A-CAM Order (Order), 88 FR 55918, August 17, 2023, WC Docket No. 10-90 et al., FCC 23-60, which adopted a voluntary path for supporting the widespread deployment of 100/20 Mbps broadband service throughout the rural areas served by carriers currently receiving Alternative Connect America Cost Model (A-CAM) support and in areas served by rate-of-return carriers eligible to receive legacy support by the end of 2028. The Commission extended by 10 years beyond the remaining five years, for a total of 15 years, the term of support for electing carriers and set a methodology for determining support amounts for locations without 100/20 Mbps broadband service within a potential budget of no more than $1.27 billion annually, or no more than $1.33 billion annually if certain conditions are met, using an updated version of the A-CAM. By adopting this program, the Commission furthered its long-standing goals by promoting the universal availability of voice and broadband networks, while also taking measures to minimize the burden on the nation's ratepayers. The Commission also adopted requirements for the Enhanced A-CAM program to complement existing Federal, state, and local funding programs, so that broadband funding can be used efficiently to maximize the deployment of high-quality broadband service across the United States.

To ensure that the Enhanced A-CAM program does not deprive rural consumers in high-cost areas of broadband service that is as secure as the service deployed pursuant to other Federal funding initiatives, the Commission required Enhanced A-CAM carriers to implement operational cybersecurity and supply chain risk management plans by January 1, 2024—the start of the Enhanced A-CAM support term. Enhanced A-CAM carriers must submit such plans to the Universal Service Administrative Company (USAC) and certify they have done so, by January 2, 2024, or within 30 days of approval under the Paperwork Reduction Act, whichever is later. Failure to submit the plans and make the certification shall result in 25% of monthly support being withheld until the carrier comes into compliance. If a carrier makes a substantive modification to its cybersecurity or supply chain risk management plan, the Commission requires that the carrier submit its updated plan to USAC within 30 days of making that modification.

The purpose of this information collection is to collect the operational cybersecurity and supply chain risk management plans required of the Enhanced A-CAM carriers by the start of the Enhanced A-CAM support term and address the burdens associated with that requirement.

Federal Communications Commission.
Marlene Dortch,
Secretary, Office of the Secretary.

[FR Doc. 2024-00417 Filed 1-10-24; 8:45 am]

BILLING CODE 6712-01-P